DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Maricopa (FEMA Docket No.: B-2116). | Unincorporated Areas of Maricopa County (21-09-0181X). | The Honorable Jack Sellers, Chairman, Board of Supervisors, Maricopa County, 301 West Jefferson Street, 10th Floor, Phoenix, AZ 85003. | Flood Control District of Maricopa County, 2801 West Durango Street, Phoenix, AZ 85009. | Apr. 30, 2021 | 040037.
Mohave (FEMA Docket No.: B-2116). | City of Bullhead City (20-09-0730P). | The Honorable Tom Brady, Mayor, City of Bullhead City, 2355 Trane Road, Bullhead City, AZ 86442. | Public Works Department, 2355 Trane Road, Bullhead City, AZ 86442. | Jun. 9, 2021 | 040125.
Pima (FEMA Docket No.: B-2080). | City of Tucson (20-09-2061P). | The Honorable Regina Romero, Mayor, City of Tucson, 255 West Alameda Street, Tucson, AZ 85701. | Planning and Development Services, Public Works Building, 201 North Stone Avenue, Tucson, AZ 85701. | Mar. 15, 2021 | 040076.
Pima (FEMA Docket No.: B-2080). | Town of Marana (20-09-0784P). | The Honorable Ed Honea, Mayor, Town of Marana, 11555 West Civic Center Drive, Marana, AZ 85653. | Engineering Department, Marana Municipal Complex, 11555 West Civic Center Drive, Marana, AZ 85653. | Apr. 5, 2021 | 040118.
Pima (FEMA Docket No.: B-2108). | Unincorporated Areas of Pima County (20-09-1372P). | The Honorable Ramon Valadez, Chairman, Board of Supervisors, Pima County, 130 West Congress Street, 11th Floor, Tucson, AZ 85701. | Pima County Flood Control District, 201 North Stone Avenue, 9th Floor, Tucson, AZ 85701. | Mar. 8, 2021 | 040073.
California:
Los Angeles (FEMA Docket No.: B-2108). | City of Los Angeles (20-09-1031P). | The Honorable Eric Garcetti, Mayor, City of Los Angeles, 200 North Spring Street, Room 303, Los Angeles, CA 90012. | Department of Public Works, Stormwater Public Counter, 1149 South Broadway, 8th Floor, Los Angeles, CA 90015. | Mar. 4, 2021 | 060137.
Nevada (FEMA Docket No.: B-2080). | Town of Truckee (20-09-0383P). | The Honorable David Polivy, Mayor, Town of Truckee, 10183 Truckee Airport Road, Truckee, CA 96161. | Eric W. Rood, Administrative Center, 950 Maidu Avenue, Nevada City, CA 95959. | Mar. 22, 2021 | 060762.
Orange (FEMA Docket No.: B-2116). | City of Huntington Beach (20-09-0545P). | The Honorable Lyn Semeta, Mayor, City of Huntington Beach, 2000 Main Street, Huntington Beach, CA 92648. | City Hall, 2000 Main Street, Huntington Beach, CA 92648. | Dec. 17, 2020 | 065034.
Orange (FEMA Docket No.: B-2108). | City of Irvine (20-09-1008P). | The Honorable Christina L. Shea, Mayor, City of Irvine, City Hall, 1 Civic Center Plaza, Irvine, CA 92606. | City Hall, 1 Civic Center Plaza, Irvine, CA 92623. | Mar. 5, 2021 | 060222.
Orange (FEMA Docket No.: B-2080). | City of Orange (21-09-0083X). | The Honorable Mark A. Murphy, Mayor, City of Orange, 300 East Chapman Avenue, Orange, CA 92866. | City Hall, 300 East Chapman Avenue, Orange, CA 92866. | Mar. 12, 2021 | 060228.
Orange (FEMA Docket No.: B-2080). | City of Villa Park (21-09-0083X). | The Honorable Robert Pitts, Mayor, City of Villa Park, 17855 Santiago Boulevard, Villa Park, CA 92861. | City Hall, 17855 Santiago Boulevard, Villa Park, CA 92861. | Mar. 12, 2021 | 060236.
Orange (FEMA Docket No.: B-2116). | Unincorporated Areas of Orange County (20-09-0545P). | The Honorable Michelle Steel, Chair, Board of Supervisors, Orange County, 333 West Santa Ana Boulevard, Santa Ana, CA 92701. | Orange County Flood Control Division, H.G. Osborne Building, 300 North Flower Street, 7th Floor, Santa Ana, CA 92703. | Dec. 17, 2020 | 060212.
Orange (FEMA Docket No.: B-2080). | Unincorporated Areas of Orange County (21-09-0083X). | The Honorable Michelle Steel, Chair, Board of Supervisors, Orange County, 333 West Santa Ana Boulevard, Santa Ana, CA 92701. | Orange County Flood Control Division, H.G. Osborne Building, 300 North Flower Street, 7th Floor, Santa Ana, CA 92703. | Mar. 12, 2021 | 060212.
Riverside (FEMA Docket No.: B-2080). | City of Eastvale (18-09-2446P). | The Honorable Brandon Plott, Mayor, City of Eastvale, 12363 Limonite Avenue, Suite 910, Eastvale, CA 91752. | City Hall, Public Works Department, 12363 Limonite Avenue, Suite 910, Eastvale, CA 91752. | Apr. 5, 2021 | 060155.
Riverside (FEMA Docket No.: B-2080). | City of Jurupa Valley (18-09-2446P). | The Honorable Anthony Kelly, Jr., Mayor, City of Jurupa Valley, 8930 Limonite Avenue, Jurupa Valley, CA 92509. | City Hall, 8930 Limonite Avenue, Jurupa, CA 92509. | Apr. 5, 2021 | 060286.
Riverside (FEMA Docket No.: B-2080). | City of Norco (18-09-2446P). | The Honorable Berwin Hanna, Mayor, City of Norco, 2870 Clark Avenue, Norco, CA 92860. | City Hall, 2870 Clark Avenue, Norco, CA 92860. | Apr. 5, 2021 | 060256.
Riverside (FEMA Docket No.: B-2080). | Unincorporated Areas of Riverside County (18-09-2446P). | The Honorable V. Manuel Perez, Chairman, Board of Supervisors, Riverside County, 4080 Lemon Street, 5th Floor, Riverside, CA 92501. | Riverside County Flood Control and Water Conservation District, 1995 Market Street, Riverside, CA 92501. | Apr. 5, 2021 | 060245.
Sacramento (FEMA Docket No.: B-2116). | Unincorporated Areas of Sacramento County (20-09-0760P). | The Honorable Phil Serna, Chairman, Board of Supervisors, Sacramento County, 700 H Street, Suite 2450, Sacramento, CA 95814. | Sacramento County Department of Water Resources, 827 7th Street, Room 301, Sacramento, CA 95814. | May 11, 2021 | 060262.
San Bernardino (FEMA Docket No.: B-2116). | City of San Bernardino (20-09-1133P). | The Honorable John Valdivia, Mayor, City of San Bernardino, 290 North D Street, San Bernardino, CA 92401. | City Hall, 300 North D Street, San Bernardino, CA 92418. | Apr. 28, 2021 | 060281.
San Bernardino (FEMA Docket No.: B-2116). | Unincorporated Areas of San Bernardino County (20-09-1133P). | The Honorable Curt Hagman, Chairman, Board of Supervisors, San Bernardino County, 385 North Arrowhead Avenue, 5th Floor, San Bernardino, CA 92415. | San Bernardino County Public Works, Water Resources Department, 825 East 3rd Street, San Bernardino, CA 92415. | Apr. 28, 2021 | 060270.
San Diego (FEMA Docket No.: B-2108). | Unincorporated Areas of San Diego County (20-09-2025P). | The Honorable Greg Cox, Chairman, Board of Supervisors, San Diego County, 1600 Pacific Highway, San Diego, CA 92101. | San Diego County Flood Control District, Department of Public Works, 5510 Overland Avenue, Suite 410, San Diego, CA 92123. | Apr. 14, 2021 | 060284.
San Mateo (FEMA Docket No.: B-2116). | City of Belmont (20-09-1412P). | The Honorable Charles Stone, Mayor, City of Belmont, 1 Twin Pines Lane, Belmont, CA 94002. | Public Works Department, 1 Twin Pines Lane, Belmont, CA 94002. | May 20, 2021 | 065016.
Ventura (FEMA Docket No.: B-2108). | City of Simi Valley (19-09-2151P). | The Honorable Keith L. Mashburn, Mayor, City of Simi Valley, 2929 Tapo Canyon Road, Simi Valley, CA 93063. | City Hall, 2929 Tapo Canyon Road, Simi Valley, CA 93063. | Apr. 27, 2021 | 060421.
Colorado:
Weld (FEMA Docket No.: B-2080). | Town of Milliken (19-08-1058P). | The Honorable Elizabeth Austin, Mayor, Town of Milliken, 1101 Broad Street, Milliken, CO 80543. | Town Hall, 1101 Broad Street, Milliken, CO 80543. | Feb.1, 2021 | 080187.
Weld (FEMA Docket No.: B-2080). | Unincorporated Areas of Weld County (19-08-1058P). | Mr. Mike Freeman, Commissioners Chair, Weld County, 1150 O Street, Greeley, CO 80632. | Weld County Commissioner's Office, 915 10th Street, Greeley, CO 80632. | Feb. 1, 2021 | 080266.
Florida:
Clay (FEMA Docket No.: B-2108). | Unincorporated Areas of Clay County (20-04-2911P). | Mr. Mike Cella, Chairperson, Board of Clay County Commissioners, P.O. Box 1366, Green Cove Springs, FL 32043. | Clay County, 321 Walnut Street, Green Cove Springs, FL 32043. | Apr. 29, 2021 | 120064.
Duval (FEMA Docket No.: B-2108). | City of Jacksonville (20-04-2911P). | The Honorable Lenny Curry, Mayor, City of Jacksonville, City Hall at St. James Building, 117 West Duval Street, Suite 400, Jacksonville, FL 32202. | City Hall, 117 West Duval Street, Room 100, Jacksonville, FL 32202. | Apr. 29, 2021 | 120077.
Duval (FEMA Docket No.: B-2108). | City of Jacksonville (20-04-3128P). | The Honorable Lenny Curry, Mayor, City of Jacksonville, City Hall at St. James Building, 117 West Duval Street, Suite 400, Jacksonville, FL 32202. | City Hall, 117 West Duval Street, Room 100, Jacksonville, FL 32202. | May 5, 2021 | 120077.
St. Johns (FEMA Docket No.: B-2108). | Unincorporated Areas of St. Johns County, (20-04-2994P). | Mr. Jeb S. Smith, Chair, St. Johns County Board of County Commissioners, 500 San Sebastian View, St. Augustine, FL 32084. | St. Johns County Permit Center, 4040 Lewis Speedway, St. Augustine, FL 32084. | Apr. 15, 2021 | 125147.
St. Johns (FEMA Docket No.: B-2108). | Unincorporated Areas of St. Johns County (20-04-3165P). | Mr. Jeb S. Smith, Chair, St. Johns County Board of County Commissioners, 500 San Sebastian View, St. Augustine, FL 32084. | St. Johns County Permit Center, 4040 Lewis Speedway, St. Augustine, FL 32084. | May 13, 2021 | 125147.
Hawaii: Hawaii (FEMA Docket No.: B-2080). | Hawaii County (20-09-1839P). | The Honorable Harry Kim, Mayor, County of Hawaii, 25 Aupuni Street, Hilo, HI 76720. | Hawaii County Department of Public Works, Engineering Division, 101 Pauahi Street, Suite 7, Hilo, HI 96720. | Mar. 19, 2021 | 155166.
Illinois:
Champaign (FEMA Docket No.: B-2123). | City of Champaign (20-05-2709P). | The Honorable Deborah Frank Feinen, Mayor, City of Champaign, 102 North Neil Street, Champaign, IL 61820. | City Hall, 102 North Neil Street, Champaign, IL 61820. | Jul. 15, 2021 | 170026.
Cook (FEMA Docket No.: B-2116). | City of Markham (20-05-2119P). | The Honorable Roger A. Agpawa, Mayor, City of Markham, 16313 Kedzie Parkway, Markham, IL 60428. | City Hall, 16313 South Kedzie Parkway Markham, IL 60428. | Jun. 16, 2021 | 175169.
Cook (FEMA Docket No.: B-2116). | Unincorporated Areas of Cook County (20-05-2119P). | The Honorable Toni Preckwinkle, County Board President, Cook County, 118 North Clark Street, Room 537, Chicago, IL 60602. | Cook County Building and Zoning Department, 69 West Washington, Suite 2830, Chicago, IL 60602. | Jun. 16, 2021 | 170054.
Cook (FEMA Docket No.: B-2108). | Unincorporated Areas of Cook County (21-05-0108P). | Toni Preckwinkle, County Board President, Cook County, 118 North Clark Street, Room 537, Chicago, IL 60602. | Cook County Building and Zoning Department, 69 West Washington, Suite 2830, Chicago, IL 60602. | May 4, 2021 | 170054.
Cook (FEMA Docket No.: B-2108). | Village of Orland Park (21-05-0108P). | The Honorable Keith Pekau, Mayor, Village of Orland Park, 14700 South Ravinia Avenue, Orland Park, IL 60462. | Village Hall, 14700 South Ravinia Avenue, Orland Park, IL 60462. | May 4, 2021 | 170140.
DuPage (FEMA Docket No.: B-2108). | City of Naperville (20-05-3287P). | The Honorable Steve Chirico, Mayor, City of Naperville, 400 South Eagle Street, Naperville, IL 60540. | Municipal Center, 400 South Eagle Street, Naperville, IL 60540. | Apr. 26, 2021 | 170213.
DuPage (FEMA Docket No.: B-2108). | City of Wheaton (20-05-3287P). | The Honorable Philip J. Suess, Mayor, City of Wheaton, 303 West Wesley Street, Wheaton, IL 60187. | City Hall, 303 West Wesley Street, Wheaton, IL 60187. | Apr. 26, 2021 | 170221.
DuPage (FEMA Docket No.: B-2108). | Unincorporated Areas of DuPage County (20-05-3287P). | Dan Cronin, Chairman, DuPage County Board, 421 North County Farm Road, Wheaton, IL 60187. | County Administration Building, Stormwater Management, 421 North County Farm Road, Wheaton, IL 60187. | Apr. 26, 2021 | 170197.
DuPage (FEMA Docket No.: B-2123). | Village of Lisle (20-05-2443P). | The Honorable Christopher Pecak, Mayor, Village of Lisle, 925 Burlington Avenue, Lisle, IL 60532. | Village Hall, 925 Burlington Avenue, Lisle, IL 60532. | Jul. 15, 2021 | 170211.
DuPage (FEMA Docket No.: B-2116). | Village of Lisle (20-05-3529P). | The Honorable Christopher Pecak, Mayor, Village of Lisle, 925 Burlington Avenue, Lisle, IL 60532. | Village Hall, 925 Burlington Avenue, Lisle, IL 60532. | Jun. 1, 2021 | 170211.
Livingston (FEMA Docket No.: B-2123). | Unincorporated Areas of Livingston County (20-05-1894P). | The Honorable Kathy Arbogast, County Board Chair, Livingston County, 112 West Madison Street, Pontiac, IL 61764. | Livingston County Regional Planning Commission, 110 West Water Street, Suite 3, Pontiac, IL 61764. | Jul. 15, 2021 | 170929.
Livingston (FEMA Docket No.: B-2123). | Village of Forrest (20-05-1894P). | The Honorable Lewis Breeden, Village President, Village of Forrest, 323 South Williams, Forrest, IL 61741. | Village Hall, 323 South Williams Forrest, IL 61741. | Jul. 15, 2021 | 170425.
Rock Island (FEMA Docket No.: B-2108). | City of Rock Island (20-05-2335P). | The Honorable Mike Thoms, Mayor, City of Rock Island, 1528 3rd Avenue, Rock Island, IL 61201. | City Hall, 1528 3rd Avenue, Rock Island, IL 61201. | Apr. 21, 2021 | 175171.
Will (FEMA Docket No.: B-2116). | City of Lockport (21-05-0834P). | The Honorable Steven Streit, Mayor, City of Lockport, 222 East 9th Street, Lockport, IL 60441. | Public Works and Engineering, 17112 South Prime Boulevard, Lockport, IL 60441. | Jun. 11, 2021 | 170703.
Will (FEMA Docket No.: B-2080). | Unincorporated Areas of Will County (20-05-3060P). | The Honorable Jennifer Bertino-Tarrant, County Executive, Will County, Will County, Office Building, 302 North Chicago Street, Joliet, IL 60432. | Land Use Department, 58 East Clinton Street, Suite 100, Joliet, IL 60432. | Apr. 9, 2021 | 170695.
Will (FEMA Docket No.: B-2116). | Unincorporated Areas of Will County (21-05-0834P). | The Honorable Jennifer Bertino-Tarrant, Will County Executive, Will County Office Building, 302 North Chicago Street, Joliet, IL 60432. | Land Use Department, 58 East Clinton Street, Suite 100, Joliet, IL 60432. | Jun. 11, 2021 | 170695.
Will (FEMA Docket No.: B-2123). | Village of Monee (20-05-3654P). | The Honorable Therese M. Bogs, Mayor, Village of Monee, 5130 West Court Street, Monee, IL 60449. | Village Hall, 5130 West Court Street, Monee, IL 60449. | Jun. 24, 2021 | 171029.
Will (FEMA Docket No.: B-2080). | Village of Romeoville (20-05-3060P). | The Honorable John D. Noak, Mayor, Village of Romeoville, 1050 West Romeo Road, Romeoville, IL 60446. | Village Hall, 1050 West Romeo Road, Romeoville, IL 60446. | Apr. 9, 2021 | 170711.
Indiana: Marion (FEMA Docket No.: B-2116). | City of Indianapolis (20-05-3684P). | The Honorable Joe Hogsett, Mayor, City of Indianapolis, 200 East Washington Street, Suite 2501, Indianapolis, IN 46204. | City Hall, 1200 Madison Avenue, Suite 100, Indianapolis, IN 46225. | May 24, 2021 | 180159.
Kansas:
Johnson (FEMA Docket No.: B-2108). | City of Shawnee (20-07-1084P). | The Honorable Michelle Distler, Mayor, City of Shawnee, City Hall, 11110 Johnson Drive, Shawnee, KS 66203. | City Hall, 11110 Johnson Drive, Shawnee, KS 66203. | Apr. 28, 2021 | 200177.
Leavenworth (FEMA Docket No.: B-2116). | City of Basehor (20-07-1131P). | The Honorable David Breuer, Mayor, City of Basehor, P.O. Box 406, Basehor, KS 66007. | City Hall, 2620 North 155th Street, Basehor, KS 66007. | May 12, 2021 | 200187.
Leavenworth (FEMA Docket No.: B-2116). | Unincorporated Areas of Leavenworth County (20-07-1131P). | Mr. Doug Smith, Chairman, Board of County Commissioners, Leavenworth County, 300 Walnut Street, Suite 225, Leavenworth, KS 66048. | Leavenworth County Courthouse, 300 Walnut Street, Leavenworth, KS 66048. | May 12, 2021 | 200186.
Michigan: Macomb (FEMA Docket No.: B-2116). | City of Fraser (20-05-3517P). | The Honorable Michael Carnagie, Mayor, City of Fraser, 33000 Garfield Road, Fraser, MI 48026. | City Hall, 33000 Garfield Road, Fraser, MI 48026. | May 28, 2021 | 260122.
Minnesota:
Norman (FEMA Docket No.: B-2080 and B-2108). | City of Halstad (20-05-2194P). | The Honorable Lori Delong, Mayor, City of Halstad, 405 2nd Avenue, West Halstad, MN 56548. | Administrative Building, 405 2nd Avenue, West Halstad, MN 56548. | Mar. 10, 2021 | 270324.
Norman (FEMA Docket No.: B-2080 and B-2108). | City of Hendrum (20-05-2263P). | The Honorable Curt Johannsen, Mayor, City of Hendrum, P.O. Box 100, Hendrum, MN 56550. | Administrative Building, 308 Main Street East, Hendrum, MN 56550. | Mar. 10, 2021 | 270325.
Norman (FEMA Docket No.: B-2080 and B-2108). | Unincorporated Areas of Norman County (20-05-2194P). | Ms. Lee Ann Hall, Chair, Norman County Board of Commissioners, 315 West Main Street, Ada, MN 56510. | Norman County Court House, 16 3rd Avenue East, Ada, MN 56510. | Mar. 10, 2021 | 270322.
Norman (FEMA Docket No.: B-2080 and B-2108). | Unincorporated Areas of Norman County (20-05-2263P). | Ms. Lee Ann Hall, Chair, Norman County Board of Commissioners, 315 West Main Street, Ada, MN 56510. | Norman County Court House, 16 3rd Avenue East, Ada, MN 56510. | Mar. 10, 2021 | 270322.
Missouri:
Boone (FEMA Docket No.: B-2108). | City of Columbia (21-07-0104P). | The Honorable Brian Treece, Mayor, City of Columbia, P.O. Box 6015, Columbia, MO 65205. | City Hall, 701 East Broadway, Columbia, MO 65205. | Apr. 21, 2021 | 290036.
Boone (FEMA Docket No.: B-2108). | Unincorporated Areas of Boone County (21-07-0104P). | Mr. Bill Florea, Director, Resource Management, Boone County, 801 East Walnut Street, Room 333, Columbia, MO 65201. | Boone County Government Center, Assessor's Office, 801 East Walnut Street, 1st Floor, Columbia, MO 65201. | Apr. 21, 2021 | 290034.
Jasper (FEMA Docket No.: B-2116). | City of Joplin (20-07-1062P). | The Honorable Ryan Stanley, Mayor, City of Joplin, City Hall, 5th Floor, 602 South Main Street, Joplin, MO 64801. | City Hall, 602 South Main Street, Joplin, MO 64801. | Jun. 3, 2021 | 290183.
Nevada: Carson City (FEMA Docket No.: B-2108). | City of Carson City (20-09-0437P). | The Honorable Brad Bonkowski, Mayor, City of Carson City, City Hall, 201 North Carson Street, Suite 2, Carson City, NV 89701. | Building Division Permit Center, 108 East Proctor Street, Carson City, NV 89701. | Feb. 18, 2021 | 320001.
New York:
Queens (FEMA Docket No.: B-2108). | City of New York (20-02-1119P). | The Honorable Bill de Blasio, Mayor, City of New York, City Hall, New York, NY 10007. | Department of City Planning, Waterfront Division, 22 Reade Street, New York, NY 10007. | Jun. 2, 2021 | 360497.
Richmond (FEMA Docket No.: B-2108). | City of New York (20-02-1564P). | The Honorable Bill de Blasio, Mayor, City of New York, City Hall, New York, NY 10007. | Department of City Planning, Waterfront Division, 22 Reade Street, New York, NY 10007. | Jun. 16, 2021 | 360497.
North Dakota:
Traill (FEMA Docket No.: B-2080 and B-2108). | Township of Herberg (20-05-2194P). | Mr. Steven Reinpold, Chairman, Township of Herberg, 221 169th Avenue, Hillsboro, ND 58045. | County Courthouse, 114 West Caledonia, Hillsboro, ND 58045. | Mar. 10, 2021 | 380621.
Traill (FEMA Docket No.: B-2080 and B-2108). | Township of Elm River (20-05-2263P). | Mr. Todd Harrington, Supervisor, Township of Elm River, 948 173rd Avenue, Grandin, ND 58038. | County Courthouse, 114 West Caledonia, Hillsboro, ND 58045. | Mar. 10, 2021 | 380636.
Ohio:
Fairfield (FEMA Docket No.: B-2080). | Unincorporated Areas of Fairfield County (20-05-3622P). | Mr. Dave L. Levacy, Commissioner, Fairfield County, 210 East Main Street, Room 301, Lancaster, OH 43130. | Fairfield County Regional Planning Commission, 210 East Main Street, Room 104, Lancaster, OH 43130. | Mar. 4, 2021 | 390158.
Franklin (FEMA Docket No.: B-2108). | City of Columbus (20-05-4648P). | The Honorable Andrew J. Ginther, Mayor, City of Columbus, 90 West Broad Street, 2nd Floor, Columbus, OH 43215. | Department of Development, 757 Carolyn Avenue, Columbus, OH 43224. | Apr. 1, 2021 | 390170.
Franklin (FEMA Docket No.: B-2080). | City of Dublin (20-05-2455P). | The Honorable Chris Amorose Groomes, Mayor, City of Dublin, City Hall, 5200 Emerald Parkway, Dublin, OH 43017. | Engineering Building, 5800 Shier-Rings Road, Dublin, OH 43017. | Feb. 24, 2021 | 390673.
Franklin (FEMA Docket No.: B-2080). | City of Grove City (20-05-3170P). | The Honorable Richard L. “Ike” Stage, Mayor, City of Grove City, 4035 Broadway, Grove City, OH 43123. | City Hall, 4035 Broadway, Grove City, OH 43123. | Feb. 19, 2021 | 390173.
Lucas (FEMA Docket No.: B-2080). | City of Toledo (20-05-2610P). | The Honorable Wade Kapszukiewicz, Mayor, City of Toledo, One Government Center, Suite 2200, Toledo, OH 43604. | Department of Inspection, One Government Center, Suite 1600, Toledo, OH 43604. | Mar. 31, 2021 | 395373.
Richland (FEMA Docket No.: B-2080). | Unincorporated Areas of Richland County (20-05-1712P). | Mr. Anthony Vero, County Executive, Richland County, 50 Park Avenue East, Mansfield, OH 44902. | Richland County Director of Building Regulations, 1495 West Longview, Avenue Suite 202A, Mansfield, OH 44906. | Mar. 23, 2021 | 390476.
Richland (FEMA Docket No.: B-2080). | Village of Bellville (20-05-1712P). | The Honorable Teri L. Brenkus, Mayor, Village of Bellville, 142 Park Place, Bellville, OH 44813. | Zoning Inspector, 142 Park Place, Bellville, OH 44813. | Mar. 23, 2021 | 390604.
Warren (FEMA Docket No.: B-2108). | City of Lebanon (20-05-3843P). | The Honorable Amy Brewer, Mayor, City of Lebanon, 50 South Broadway, Lebanon, OH 45036. | City Hall, 50 South Broadway, Lebanon, OH 45036. | May 3, 2021 | 390557.
Oregon: Columbia (FEMA Docket No.: B-2108). | City of Scappoose (21-10-0251P). | The Honorable Scott Burge, Mayor, City of Scappoose, 33568 East Columbia Avenue, Scappoose, OR 97056. | Community Development Center, 52610 Northeast 1st Street, Suite 120, Scappoose, OR 97056. | Apr. 19, 2021 | 410039.
Texas:
Dallas (FEMA Docket No.: B-2108). | City of Carrollton (20-06-1319P). | The Honorable Kevin Falconer, Mayor, City of Carrollton, P.O. Box 110535, Carrollton, TX 75011. | Engineering Department, 1945 East Jackson Road, Carrolton, TX 75011. | Apr. 12, 2021 | 480167.
Dallas (FEMA Docket No.: B-2108). | City of Mesquite (20-06-2074P). | The Honorable Bruce Archer, Mayor, City of Mesquite, P.O. Box 850137, Mesquite, TX 75185. | Engineering Division, 1515 North Galloway Avenue, Mesquite, TX 75149. | Apr. 8, 2021 | 485490.
Dallas (FEMA Docket No.: B-2108). | City of Richardson (20-06-1189P). | The Honorable Paul Voelker, Mayor, City of Richardson, City Hall, 411 West Arapaho Road, Richardson, TX 75080. | Engineering Office, 411 West Arapaho Road, Richardson, TX 75080. | Apr. 22, 2021 | 480184
Tarrant (FEMA Docket No.: B-2080). | City of Fort Worth (20-06-0541P). | The Honorable Betsy Price, Mayor, City of Fort Worth, 200 Texas Street, Fort Worth, TX 76102. | Department of Transportation and Public Works, 200 Texas Street, Fort Worth, TX 76102. | Mar. 19, 2021 | 480596.
Washington: Jefferson (FEMA Docket No.: B-2116). | Unincorporated Areas of Jefferson County (20-10-1157P). | Ms. Kate Dean, County Commissioner, Jefferson County Board of County Commissioners, P.O. Box 1220, Port Townsend, WA 98368. | Jefferson County Department of Community Development, 621 Sheridan Street, Port Townsend, WA 98368. | May 11, 2021 | 530069.
Wisconsin:
Iron (FEMA Docket No.: B-2108). | Unincorporated Areas of Iron County (20-05-2553P). | Mr. Joseph Pinardi, Chairman, Iron County, 406 Maple Street, Hurley, WI 54534. | Iron County Comprehensive Planning, Land and Zoning Department, 300 Taconite Street, Suite 115, Hurley, WI 54534. | Apr. 9, 2021 | 550182.
Kenosha (FEMA Docket No.: B-2116). | Village of Somers (17-05-6202P). | Mr. George Stoner, Board of Trustees President, Village of Somers, 7511 12th Street, Somers, WI 53171. | Village Hall, 7511-12th Street, Kenosha, WI 53144. | Jun. 14, 2021 | 550406.
Manitowoc (FEMA Docket No.: B-2080). | City of Manitowoc (20-05-4694P). | The Honorable Justin M. Nickels, Mayor, City of Manitowoc, 900 Quay Street, Manitowoc, WI 54220. | City Hall, 900 Quay Street, Manitowoc, WI 54220. | Mar. 11, 2021 | 550240.
Manitowoc (FEMA Docket No.: B-2080). | Unincorporated Areas of Manitowoc (20-05-4694P). | The Honorable Jim Brey, Chair, Board of Supervisors, Manitowoc County Courthouse, 1010 South 8th Street, Manitowoc, WI 54220. | Manitowoc County Courthouse, 1010 South 8th Street, Manitowoc, WI 54220. | Mar. 11, 2021 | 550236.
Outagamie (FEMA Docket No.: B-2108). | City of Appleton (20-05-2300P). | The Honorable Jake Woodford, Mayor, City of Appleton, City Hall, 100 North Appleton Street, Appleton, WI 54911. | City Hall, 100 North Appleton Street, Appleton, WI 54911. | Apr. 28, 2021 | 555542.
Outagamie (FEMA Docket No.: B-2108). | Unincorporated Areas of Outagamie County (20-05-2300P). | Mr. Thomas M. Nelson, County Executive, Outagamie County, 320 South Walnut Street, Appleton, WI 54911. | Outagamie County Building, 410 South Walnut Street, Appleton, WI 54911. | Apr. 28, 2021 | 550302.

[FR Doc. 2021-17204 Filed 8-11-21; 8:45 am]

BILLING CODE 9110-12-P